DEPARTMENT OF HEALTH AND HUMAN SERVICES

Food and Drug Administration

[Docket No. FDA-2009-D-0347]

Draft Guidance for Industry: Guide to Minimize Microbial Food Safety Hazards of Melons; Extension of Comment Period

AGENCY: Food and Drug Administration, HHS.

ACTION: Notice; extension of comment period.

SUMMARY: The Food and Drug Administration (FDA) is extending to January 4, 2010, the comment period for the draft guidance entitled “Guidance for Industry: Guide to Minimize Microbial Food Safety Hazards of Melons” that appeared in the Federal Register of August 3, 2009 (74 FR 38437), as corrected on August 21, 2009 (74 FR 42311). In the notice of availability, FDA requested comments by November 2, 2009. The agency is taking this action in response to requests for an extension to allow interested persons additional time to submit comments.

DATES: Submit written or electronic comments by January 4, 2010.

ADDRESSES: Submit electronic comments to http://www.regulations.gov. Submit written comments to the Division of Dockets Management (HFA-305), Food and Drug Administration, 5630 Fishers Lane, rm. 1061, Rockville, MD 20852.

FOR FURTHER INFORMATION CONTACT: Willette Crawford, Center for Food Safety and Applied Nutrition (HFS-317), Food and Drug Administration, 5100 Paint Branch Pkwy., College Park, MD 20740, 301-436-1111.

SUPPLEMENTARY INFORMATION:

I. Background

In the Federal Register of August 3, 2009 (74 FR 38437), as corrected on August 21, 2009 (74 FR 42311), FDA published a notice of availability with a 90-day comment period to request comments on the draft guidance entitled “Guidance for Industry: Guide to Minimize Microbial Food Safety Hazards of Melons” (the draft guidance). Comments on the draft guidance will inform FDA's current thinking for finalization of this level 1 guidance consistent with FDA's good guidance practices.

The agency has received requests for an extension of the comment period for the draft guidance. FDA has considered the requests and is extending the comment period for the draft guidance until January 4, 2010. The agency believes that this extension allows adequate time for interested persons to submit comments without significantly delaying finalization of this level 1 guidance.

II. Request for Comments

Interested persons may submit to the Division of Dockets Management (see ADDRESSES) written or electronic comments on this document. Submit a single copy of electronic comments or two paper copies of any mailed comments, except that individuals may submit one paper copy. Comments are to be identified with the docket number found in brackets in the heading of this document. Received comments may be seen in the Division of Dockets Management between 9 a.m. and 4 p.m., Monday through Friday.

Dated: October 30, 2009.
David Horowitz,
Assistant Commissioner for Policy.

[FR Doc. E9-26638 Filed 11-2-09; 11:15 am]

BILLING CODE 4160-01-S